DEPARTMENT OF ENERGY

Federal Energy Regulatory Commission

Combined Notice of Filings #1

Take notice that the Commission received the following electric corporate filings:

Docket Numbers: EC25-43-000.

Applicants: CONSTELLATION ENERGY CORPORATION, Constellation Energy Generation, LLC, Calpine Corporation.

Description: Response to 03/27/2025, Deficiency Letter of Constellation Energy Corporation, et al.

Filed Date: 4/28/25.

Accession Number: 20250428-5293.

Comment Date: 5 p.m. ET 5/19/25.

Take notice that the Commission received the following exempt wholesale generator filings:

Docket Numbers: EG25-306-000.

Applicants: Oak Hill Solar LLC.

Description: Oak Hill Solar LLC submits Notice of Self-Certification of Exempt Wholesale Generator Status.

Filed Date: 4/28/25.

Accession Number: 20250428-5250.

Comment Date: 5 p.m. ET 5/19/25.

Take notice that the Commission received the following electric rate filings:

Docket Numbers: ER10-1827-011.

Applicants: Cleco Power LLC.

Description: Notice of Non-Material Change in Status of Cleco Power LLC.

Filed Date: 4/28/25.

Accession Number: 20250428-5292.

Comment Date: 5 p.m. ET 5/19/25.

Docket Numbers: ER10-2126-010.

Applicants: Idaho Power Company.

Description: Notice of Change in Status of Idaho Power Company.

Filed Date: 4/25/25.

Accession Number: 20250425-5284.

Comment Date: 5 p.m. ET 5/16/25.

Docket Numbers: ER11-4633-009.

Applicants: Madison Gas and Electric Company.

Description: Notice of Change in Status of Madison Gas and Electric Company.

Filed Date: 4/25/25.

Accession Number: 20250425-5283.

Comment Date: 5 p.m. ET 5/16/25.

Docket Numbers: ER11-4633-008.

Applicants: Madison Gas and Electric Company.

Description: Triennial Market Power Analysis for Central Region of Madison Gas and Electric Company.

Filed Date: 4/25/25.

Accession Number: 20250425-5279.

Comment Date: 5 p.m. ET 6/24/25.

Docket Numbers: ER19-192-002.

Applicants: Great Plains Windpark Legacy, LLC.

Description: Notice of Non-Material Change in Status of Great Plains Legacy Windpark.

Filed Date: 4/28/25.

Accession Number: 20250428-5302.

Comment Date: 5 p.m. ET 5/19/25.

Docket Numbers: ER20-2998-001; ER20-2997-001; ER20-1983-002; ER21-2429-002; ER20-1981-002.

Applicants: Pioneer Solar (CO), LLC, Tulare Solar Center, LLC, Central 40, LLC, RE Mustang Two Whirlaway LLC, RE Mustang Two Barbaro LLC.

Description: Supplement to 03/17/2025 Notice of Non-Material Change in Status of RE Mustang Two Barbaro LLC, et al.

Filed Date: 4/24/25.

Accession Number: 20250424-5233.

Comment Date: 5 p.m. ET 5/15/25.

Docket Numbers: ER23-2520-002.

Applicants: SR Litchfield, LLC.

Description: Notice of Non-Material Change in Status of SR Litchfield, LLC.

Filed Date: 4/29/25.

Accession Number: 20250429-5178.

Comment Date: 5 p.m. ET 5/20/25.

Docket Numbers: ER24-2921-001.

Applicants: Boswell Wind, LLC.

Description: Notice of Change in Status of Boswell Wind, LLC.

Filed Date: 4/28/25.

Accession Number: 20250428-5294.

Comment Date: 5 p.m. ET 5/19/25.

Docket Numbers: ER25-951-001.

Applicants: PacifiCorp.

Description: Tariff Amendment: Response to Deficiency Letter to be effective 12/31/9998.

Filed Date: 4/28/25.

Accession Number: 20250428-5257.

Comment Date: 5 p.m. ET 5/19/25.

Docket Numbers: ER25-2067-000.

Applicants: Public Service Company of Colorado.

Description: § 205(d) Rate Filing: 2025-04-30 PSC—Rush Creek Gen-Tie to be effective 6/1/2025.

Filed Date: 4/28/25.

Accession Number: 20250428-5243.

Comment Date: 5 p.m. ET 5/19/25.

Docket Numbers: ER25-2068-000.

Applicants: Spartacus Energy of New York LLC.

Description: § 205(d) Rate Filing: Market-Based Rate Tariff Application with Expedited Treatment to be effective 4/29/2025.

Filed Date: 4/28/25.

Accession Number: 20250428-5249.

Comment Date: 5 p.m. ET 5/19/25.

Docket Numbers: ER25-2069-000.

Applicants: Pacific Gas and Electric Company.

Description: § 205(d) Rate Filing: TO SA 284: Extension to CCSF IA to be effective 7/1/2025.

Filed Date: 4/29/25.

Accession Number: 20250429-5000.

Comment Date: 5 p.m. ET 5/20/25.

Docket Numbers: ER25-2070-000.

Applicants: Pacific Gas and Electric Company.

Description: § 205(d) Rate Filing: WDT SA 275: Extension to CCSF SA and IA to be effective 7/1/2025.

Filed Date: 4/29/25.

Accession Number: 20250429-5001.

Comment Date: 5 p.m. ET 5/20/25.

Docket Numbers: ER25-2071-000.

Applicants: PJM Interconnection, L.L.C.

Description: § 205(d) Rate Filing: Necessary Studies Agreement, Original SA No. 7663; Queue No. AB2-133 to be effective 6/29/2025.

Filed Date: 4/29/25.

Accession Number: 20250429-5028.

Comment Date: 5 p.m. ET 5/20/25.

Docket Numbers: ER25-2072-000.

Applicants: American Electric Power Service Corporation.

Description: § 205(d) Rate Filing: AEPSC submits an update to Attachment 1 of the ILDSA—SA No. 1336 to be effective 4/1/2025.

Filed Date: 4/29/25.

Accession Number: 20250429-5054.

Comment Date: 5 p.m. ET 5/20/25.

Docket Numbers: ER25-2073-000.

Applicants: Unitil Power Corp.

Description: Unitil Power Corp submits Statement of all billing transactions under the Amended Unitil System Agreement for the period 01/01/2024 to 12/31/2024.

Filed Date: 4/24/25.

Accession Number: 20250424-5248.

Comment Date: 5 p.m. ET 5/15/25.

Docket Numbers: ER25-2074-000.

Applicants: Midcontinent Independent System Operator, Inc.

Description: § 205(d) Rate Filing: 2025-04-29_SA 3482 ATC-Wisconsin Electric Power 4th Rev GIA (J878 J1316) to be effective 4/23/2025.

Filed Date: 4/29/25.

Accession Number: 20250429-5075.

Comment Date: 5 p.m. ET 5/20/25.

Docket Numbers: ER25-2075-000.

Applicants: Tampa Electric Company.

Description: § 205(d) Rate Filing: Emergency Interchange Service Schedule A&B-2025 to be effective 5/1/2025.

Filed Date: 4/29/25.

Accession Number: 20250429-5090.

Comment Date: 5 p.m. ET 5/20/25.

Docket Numbers: ER25-2076-000.

Applicants: SloughHouse Solar, LLC.

Description: § 205(d) Rate Filing: Revised Market-Based Rate Tariff Filing to be effective 6/29/2025.

Filed Date: 4/29/25.

Accession Number: 20250429-5108.

Comment Date: 5 p.m. ET 5/20/25.

Docket Numbers: ER25-2077-000.

Applicants: Idaho Power Company.

Description: Notice of Termination of Interconnection Agreement of Idaho Power Company.

Filed Date: 4/28/25.

Accession Number: 20250428-5306.

Comment Date: 5 p.m. ET 5/19/25.

Docket Numbers: ER25-2078-000.

Applicants: Midcontinent Independent System Operator, Inc.

Description: § 205(d) Rate Filing: 2025-04-29_Att X—GIP True Up to be effective 1/31/2025.

Filed Date: 4/29/25.

Accession Number: 20250429-5222.

Comment Date: 5 p.m. ET 5/20/25.

Docket Numbers: ER25-2079-000.

Applicants: Shady Hills Power Company, L.L.C.

Description: Tariff Amendment: MBR Cancellation Filing of Shady Hills Power Company LLC to be effective 4/30/2025.

Filed Date: 4/29/25.

Accession Number: 20250429-5230.

Comment Date: 5 p.m. ET 5/20/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: April 29, 2025.
Carlos D. Clay,
Deputy Secretary.

[FR Doc. 2025-07765 Filed 5-2-25; 8:45 am]

BILLING CODE 6717-01-P